DEPARTMENT OF VETERANS AFFAIRS

Loan Guaranty: Loan Servicing and Claims Procedures Modifications Segment 4 Effective Date

AGENCY: Department of Veterans Affairs (VA).

ACTION: Notice of applicability of Subpart F of 38 CFR, Part 36, to Segment 4 of the mortgage servicing industry.

SUMMARY: This publication is to serve as notice that on June 27, 2008, Subpart F of Title 38, Code of Federal Regulations, Part 36, will be applicable to industry segment 4. Program participants in the VA Home Loan Guaranty Program's servicing and claims activities were assigned to one of nine industry segments as part of the planned phased implementation of the rules in Subpart F. All program participants were given notice of their respective segments and were afforded opportunity to comment during the regulatory development process (see SUPPLEMENTARY INFORMATION section, below). Segment 4 participants will be under the authority of Subpart F rules on June 27, 2008. VA continues to work with these participants to ensure that all necessary servicing system modifications, defect corrections, interface testing and data transmission are addressed.

SUPPLEMENTARY INFORMATION: On Friday, February 1, 2008, VA published final regulations that modify its Loan Guaranty Program's loan servicing and claims procedures modifications (73 FR 6294). In response to comments received to the proposed regulations (70 FR 8472, published February 18, 2005) and to a supplemental notice published on November 27, 2006 (71 FR 68498), VA published a second supplemental notice on June 1, 2007 (72 FR 30505), in which the agency put forth a proposal to phase-in implementation of the new tracking system.

Based on comments received to the proposed regulations and the first supplemental notice, VA decided to proceed with gradual implementation of the new rules and its computer-based tracking system, the VA Loan Electronic Reporting Interface (VALERI), with nine separate industry segments to be phased in over a period of approximately 11 months. The first segment was subject to the new rules upon publication of the final regulations, when the rules became effective. The second segment was subject to the new rules effective April 19, 2008 (73 FR 21176). The third segment was subject to the new rules effective May 30, 2008 (73 FR 34993). In order to ease confusion that was created by the original schedule showing the fourth segment not subject to the new rules until approximately the same time as the ninth segment, VA moved the former members of industry segment four into the last segment, and renumbered all subsequent segments accordingly. This resulted in only eight industry segments. The segment groupings may be found on VA's Web site at http://www.homeloans.va.gov/valeri.htm. The fourth segment will be subject to the new rules effective June 27, 2008. Notices about effective dates for other industry segments may be found in this issue of the Federal Register.

FOR FURTHER INFORMATION CONTACT: Mike Frueh, Department of Veterans Affairs, 810 Vermont Avenue, NW., Washington, DC 20420, (202) 461-9521 (Not a toll-free number).

Approved: September 17, 2008.
Gordon H. Mansfield,
Deputy Secretary of Veterans Affairs.

[FR Doc. E8-22299 Filed 9-23-08; 8:45 am]

BILLING CODE 8320-01-P